DEPARTMENT OF COMMERCE

International Trade Administration

[C-552-824]

Laminated Woven Sacks From the Socialist Republic of Vietnam: Final Results of the Expedited First Sunset Review of the Countervailing Duty Order

AGENCY: Enforcement and Compliance, International Trade Administration, Department of Commerce.

SUMMARY: The U.S. Department of Commerce (Commerce) finds that revocation of the countervailing duty (CVD) order on Laminated Woven Sacks (LWS) from the Socialist Republic of Vietnam (Vietnam) would be likely to lead to continuation or recurrence of countervailing subsidies at the levels indicated in the “Final Results of Sunset Review” section of this notice.

DATES: Applicable September 11, 2024.

FOR FURTHER INFORMATION CONTACT: Luke Caruso, AD/CVD Operations, Office IV, Enforcement and Compliance, International Trade Administration, U.S. Department of Commerce, 1401 Constitution Avenue NW, Washington, DC 20230; telephone: (202) 482-2081.

SUPPLEMENTARY INFORMATION:

Background

On June 4, 2019, Commerce published in the Federal Register the CVD order on LWS from Vietnam.¹ On May 1, 2024, Commerce initiated the first sunset review of the Order, pursuant to section 751(c) of the Tariff Act of 1930, as amended (the Act).² On May 10, 2024, Commerce received a timely notice of intent to participate from Polytex Fiber LLC and ProAmpac Holdings Inc. (collectively, the domestic interested parties) within the 15-day deadline specified in 19 CFR 351.218(d)(1)(i).³ The domestic interested parties claimed interested party status under sections 771(9)(E) and (F) of the Act.

¹ See Laminated Woven Sacks from the Socialist Republic of Vietnam: Antidumping Duty and Countervailing Duty Orders, 84 FR 25753 (June 4, 2019) (Order).

² See Initiation of Five-Year (Sunset) Reviews, 89 FR 35073 (May 1, 2024) (Initiation Notice).

³ See Domestic Interested Parties' Letter, “Domestic Interested Party Notice Of Intent To Participate,” dated May 10, 2024.

On May 30, 2024, Commerce received an adequate substantive response to the Initiation Notice from the domestic interested parties within the 30-day deadline specified in 19 CFR 351.218(d)(3)(i).⁴ We received no substantive responses from any other interested parties, including the Government of Vietnam, and no interested party requested a hearing. On June 21, 2024, Commerce notified the U.S. International Trade Commission that it did not receive an adequate substantive response from respondent interested parties, and that Commerce would conduct an expedited (120-day) sunset review of the Order,⁵ pursuant to section 751(c)(3)(B) of the Act and 19 CFR 351.218(e)(1)(ii)(B)-(C).

⁴ See Domestic Interested Parties' Letter, “Domestic Interested Party Substantive Response,” dated May 30, 2024 (Substantive Response).

⁵ See Commerce's Letter, “Sunset Reviews Initiated on May 1, 2024,” dated June 21, 2024.

Scope of the Order

The product covered by the Order is LWS. For a complete description of the scope of the Order, see the Issues and Decision Memorandum.⁶

⁶ See Memorandum, “Decision Memorandum for the Final Results of the Expedited First Sunset Review of the Countervailing Duty Order on Laminated Woven Sacks from Vietnam,” dated concurrently with, and hereby adopted by, this notice (Issues and Decision Memorandum).

Analysis of Comments Received

All issues raised in this sunset review are addressed in the accompanying Issues and Decision Memorandum. A list of the issues discussed in the Issues and Decision Memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNotices/ListLayout.aspx.

Final Results of Sunset Review

Pursuant to sections 751(c)(1) and 752(b) of the Act, Commerce determines that revocation of the Order would likely lead to continuation or recurrence of countervailable subsidies at the following net countervailable subsidy rates:

Company | Subsidy rate (percent ad valorem)
Duong Vinh Hoa Packaging Company Limited | 3.02
Xinsheng Plastic Industry Co., Ltd | 198.87
All Others | 3.02

Administrative Protective Order

This notice serves as the only reminder to parties subject to an administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(b), and 777(i)(1) of the Act and 19 CFR 351.218.

Dated: September 5, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2024-20567 Filed 9-10-24; 8:45 am]

BILLING CODE 3510-DS-P